DEPARTMENT OF TRANSPORTATION

Federal Aviation Administration

Notice of Availability of the Record of Decision (ROD) Written Re-Evaluation (WR) of Final Environmental Impact Statement (FEIS) for the Proposed Airport, Angoon, Alaska

AGENCY: Federal Aviation Administration (FAA).

ACTION: Notice of availability (NOA); record of decision (ROD).

SUMMARY: In accordance with the National Environmental Policy Act of 1969 and Council on Environmental Quality (CEQ) regulations, the FAA issues this notice to advise the public that the FAA has issued the ROD of the WR of the FEIS for the proposed airport in Angoon, Alaska. The ROD constitutes the final decision of the FAA and summarizes the WR of FEIS analyses and selected mitigation measures.

SUPPLEMENTARY INFORMATION:

In the ROD, the FAA selected the following realignment for implementation:

Airport 12A-Echo, which involves the construction of a land-based airport consisting of a paved, 3,300-foot-long and 75-foot-wide runway and associated access road. The project will be located on lands owned or managed by private landowners; Kootznoowoo, Inc.; and the City of Angoon.

The FAA has included determinations on the project based upon evidence set forth in the WR, FEIS, public input, and the supporting administrative record. http://dot.alaska.gov/sereg/projects/angoon_airport_new/index.shtml.

ADDRESSES: Copies of the WR are available at the following locations. While restrictions on in-person interactions are in place due to COVID-19, online access to the WR is encouraged:

1. Online at http://dot.alaska.gov/sereg/projects/angoon_airport_new/index.shtml.

2. Juneau Public Library

• Downtown Branch, 292 Marine Way, Juneau, AK 99801

• Douglas Branch, 1016 3rd Street, Douglas, AK 99824

• Mendenhall Mall Branch, 9109 Mendenhall Mall Rd, Juneau, AK 99801

3. Angoon Community Association Building, 315 Heendae Rd, Angoon, AK 99820

4. Angoon City Government Office, 700 Aan Deina Aat Street, Angoon, AK 99820

5. The FAA, Airports Division. Please contact Venus Larson at (907) 271-3813 for a copy or access online at https://www.faa.gov/airports/alaskan/environmental/.

6. ADOT Southcoast

• Email: angoonairport@alaska.gov;

• U.S. Mail: Chris Goins, PE, Project Manager, DOT&PF Southcoast Region, P.O. Box 112506, Juneau, AK 99811-2506.

• Phone: Contact Chris Goins, PE at (907) 465-4443.

FOR FURTHER INFORMATION CONTACT: Venus Larson, AAL-624, Federal Aviation Administration, Alaskan Region, Airports Division, 222 W. 7th Avenue Box #14, Anchorage, AK 99513. Ms. Larson may be contacted during business hours at (907) 271-3813 (telephone) and (907) 271-2851 (fax), or by email at Venus.Larson@faa.gov.

Kristi A. Warden,
Director, Alaskan Region Airports Division, AAL-600.

[FR Doc. 2020-08674 Filed 4-23-20; 8:45 am]

BILLING CODE 4910-13-P